DEPARTMENT OF COMMERCE

International Trade Administration

[A-570-028]

Hydrofluorocarbon Blends From the People's Republic of China: Amended Final Results of Antidumping Duty Administrative Review; 2021-2022

AGENCY: Enforcement and Compliance, International Trade Administration, Department of Commerce.

SUMMARY: The U.S. Department of Commerce (Commerce) is amending the final results of the administrative review of the antidumping duty order on hydrofluorocarbon blends (HFC blends) from the People's Republic of China (China) to correct ministerial errors. Based on the amended final results, we find that the sole mandatory respondent, Zhejiang Sanmei Chemical Industry Co., Ltd. (Sanmei) sold HFC blends in the United States at less than normal value (NV) during the period of review (POR) August 1, 2021, through July 31, 2022.

DATES: Applicable April 11, 2024.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On March 8, 2024, Commerce published in the Federal Register the final results of the 2021-2022 administrative review of the AD order on HFC blends from China.¹ On March 6, 2024, Commerce disclosed its calculations and provided interested parties with the opportunity to submit ministerial error comments.² On March 8 and 11, 2024, Sanmei, the sole mandatory respondent in this administrative review and the American HFC Coalition (the petitioner), respectively, timely submitted allegations of ministerial errors in the Final Results.³ On March 13, 2024, the petitioner submitted rebuttal comments regarding Sanmei's ministerial error allegation.⁴ Commerce is amending the Final Results to correct these ministerial errors.

¹ See Hydrofluorocarbon Blends from the People's Republic of China: Final Results of Antidumping Duty Administrative Review; 2021-2022, 89 FR 16726 (March 8, 2024) (Final Results), and accompanying Issues and Decision Memorandum.

² See Memorandum, “Deadline to Submit Ministerial Error Allegations,” dated March 6, 2024.

³ See Sanmei's Letter, “Zhejiang Sanmei's Ministerial Error Comments,” dated March 8, 2024; see also Petitioner's Letter, “HFC Coalition's Ministerial Error Allegation,” dated March 11, 2024.

⁴ See Petitioner's Letter, “HFC Coalition's Rebuttal to Sanmei's Ministerial Error Allegation,” dated March 13, 2024.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ⁵ With respect to final results of administrative reviews, 19 CFR 351.224(e) provides that Commerce “will analyze any comments received and, if appropriate, correct any ministerial error by amending . . . the final results of review.”

⁵ See 19 CFR 351.224(f).

Ministerial Error

Commerce determined that it made inadvertent errors within the meaning of section 751(h) of the Act and 19 CFR 351.224(f) with respect to certain calculations regarding the following: (1) a surrogate freight cost for a utility input; (2) the resulting total value of that input; and (3) the value of perchloroethylene, an input used to make HFC blends. Accordingly, we determine, in accordance with section 751(h) of the Act and 19 CFR 351.224(f), that we made ministerial errors in the Final Results. Pursuant to 19 CFR 351.224(e), we are amending the Final Results to correct these errors. These corrections result in a change to Sanmei's weighted-average dumping margin. For a complete description and analysis of the specific inadvertent errors and a discussion of the ministerial error allegations, see the accompanying Ministerial Error Allegation Memorandum.⁶ The Ministerial Error Allegation Memorandum is a public document and is on file electronically via Enforcement and Compliance's Antidumping and Countervailing Duty Centralized Electronic Service System (ACCESS). ACCESS is available to registered users at https://access.trade.gov.

⁶ See Memorandum, “Administrative Review of the Antidumping Duty Order on Hydrofluorocarbon Blends from the People's Republic of China; 2021-2022: Ministerial Error Allegation in the Final Results,” dated concurrently with this notice (Ministerial Error Allegation Memorandum).

Amended Final Results of Review

As a result of correcting these ministerial errors, Commerce determines that the following estimated weighted-average dumping margin exists for the period August 1, 2021, through July 31, 2022:

Exporter | Weighted- average dumping margin (percent)
Zhejiang Sanmei Chemical Industry Co., Ltd | 96.94

Disclosure

Commerce intends to disclose the calculations performed in connection with these amended final results of review to interested parties within five days after public announcement of the amended final results or, if there is no public announcement, within five days of the date of publication of the notice of amended final results in the Federal Register, in accordance with 19 CFR 351.224(b).

Assessment Rate

Pursuant to section 751(a)(2)(C) of the Act and 19 CFR 351.212(b)(1), Commerce has determined, and U.S. Customs and Border Protection (CBP) shall assess, antidumping duties on all appropriate entries of subject merchandise in accordance with the amended final results of this review.

For Sanmei, Commerce calculated importer-specific assessment rates for antidumping duties, in accordance with 19 CFR 351.212(b)(1). Where the respondent reported reliable entered values, Commerce calculated importer-specific ad valorem assessment rates by aggregating the amount of dumping calculated for all U.S. sales to the importer and dividing this amount by the total entered value of the merchandise sold to the importer. Where the respondent did not report entered values, we calculated importer-specific assessment rates by dividing the amount of dumping for reviewed sales to the importer by the total quantity of those sales. Commerce will calculate an estimated ad valorem importer-specific assessment rate to determine whether the per-unit assessment rate is de minimis; however, Commerce will use the per-unit assessment rate where entered values were not reported. Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate appropriate entries without regard to antidumping duties.⁷

⁷ See 19 CFR 351.106(c)(2).

For entries that were not reported in the U.S. sales database submitted by Sanmei, Commerce will instruct CBP to liquidate such entries at the China-wide rate.⁸

⁸ For a full discussion of this practice, see Non-Market Economy Antidumping Proceedings: Assessment of Antidumping Duties, 76 FR 65694 (October 24, 2011).

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following amended cash deposit requirements will be effective retroactively upon publication of the amended final results of this administrative review for all shipments of the subject merchandise from China entered, or withdrawn from warehouse, for consumption on or after the publication date, as provided by section 751(a)(2)(C) of the Act: (1) for the exporter listed above, Sanmei, the amended cash deposit rate will be equal to the weighted-average dumping margin established in the amended final results of this review; (2) for previously investigated or reviewed Chinese and non-Chinese exporters not listed above that currently have a separate rate, the cash deposit rate will continue to be the exporter-specific rate published for the most recently completed segment of this proceeding where the exporter received that separate rate; (3) for all Chinese exporters of subject merchandise that have not been found to be entitled to a separate rate, the cash deposit rate will be the rate for the China-wide entity (i.e., 216.37 percent); and (4) for all non-Chinese exporters of subject merchandise that have not received their own separate rate, the cash deposit rate will be the rate applicable to the Chinese exporter that supplied that non-Chinese exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice serves as the only reminder to parties subject to an administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a violation subject to sanction.

Notification to Interested Parties

We are issuing and publishing this notice in accordance with sections 751(h) and 777(i) of the Act, and 19 CFR 351.224(e).

Dated: April 4, 2024.
Ryan Majerus,
Deputy Assistant Secretary for Policy and Negotiations, performing the non-exclusive functions and duties of the Assistant Secretary for Enforcement and Compliance.

[FR Doc. 2024-07680 Filed 4-10-24; 8:45 am]

BILLING CODE 3510-DS-P